DEPARTMENT OF HEALTH AND HUMAN SERVICES

National Institutes of Health

National Institute of Environmental Health Sciences; Amended Notice of Meeting

Notice is hereby given of a change in the meeting of the National Institute of Environmental Health Sciences Special Emphasis Panel, June 06, 2017, 08:00 a.m. to June 06, 2017, 06:00 p.m., NIEHS/National Institute of Environmental Health, Keystone Building, 530 Davis Drive, Research Triangle Park, NC 27709 which was published in the Federal Register on May 26, 2017, 82 FR 24363.

This meeting is being amended to change the date from Tuesday, June 6, 2017 to Thursday, July 6, 2017, 10:00 a.m. to 10:00 p.m. The meeting is closed to the public.

Dated: June 13, 2017.
Natasha M. Copeland,
Program Analyst, Office of Federal Advisory Committee Policy.

[FR Doc. 2017-12616 Filed 6-16-17; 8:45 am]

BILLING CODE 4140-01-P